DEPARTMENT OF COMMERCE

National Oceanic and Atmospheric Administration

50 CFR Part 648

[Docket No. 060314069-6069-01; I.D. 071806D]

Magnuson-Stevens Fishery Conservation and Management Act Provisions; Fisheries of the Northeastern United States; Atlantic Sea Scallop Fishery; Closure of the Nantucket Lightship Scallop Access Area to Scallop Vessels

AGENCY: National Marine Fisheries Service (NMFS), National Oceanic and Atmospheric Administration (NOAA), Commerce.

ACTION: Temporary rule; closure.

SUMMARY: NMFS announces the closure of the Nantucket Lightship Scallop Access Area (NLCA) to scallop vessels until June 15, 2007. This closure, effective 0001 hours on July 20, 2006, is based on a determination by the Northeast Regional Administrator (RA) that scallop vessels may attain the yellowtail flounder (YT) bycatch total allowable catch (TAC) for the NLCA on July 20, 2006. This action is being taken to prevent the scallop fleet from exceeding the YT bycatch TAC allocated to the NLCA for the 2006 scallop fishing year in accordance with the regulations implementing the Atlantic Sea Scallop Fishery Management Plan (FMP), Northeast (NE) Multispecies FMP and the Magnuson-Stevens Fishery Conservation and Management Act.

DATES: The closure of the NLCA to all scallop vessels is effective 0001 hr local time, July 20, 2006, until June 15, 2007.

FOR FURTHER INFORMATION CONTACT: Ryan Silva, Fishery Management Specialist, (978) 281-9326, fax (978) 281-9135.

SUPPLEMENTARY INFORMATION: Commercial scallop vessels fishing in access areas are allocated 9.8-percent of the annual YT TACs established in the Northeast (NE) Multispecies FMP. Given current fishing effort by scallop vessels in the NLCA, the RA has made a determination that the NLCA YT TAC is projected to be attained on July 20, 2006. Pursuant to 50 CFR 648.60(a)(5)(ii)(C) and 648.85(c)(3)(ii), this Federal Register action notifies scallop vessel owners that, effective 0001 hours on July 20, 2006, scallop vessels are prohibited from declaring or initiating a trip into the NLCA until June 15, 2007.

If a vessel with a limited access scallop permit has an unused trip(s) into the NLCA, it will be allocated 4.9 additional open areas days-at-sea (DAS) for each unused trip. If a vessel has an unused compensation trip(s), it is allocated additional open area DAS based on estimated catch rates for the NLCA. The conversion rate from access area DAS to open area DAS for the NLCA is 0.41 per open area DAS. An access area DAS is equal to 1,500 lbs. A separate letter will be sent to notify vessel owners of their allocations for unused complete and/or compensation trips in the NLCA.

Classification

This action is required by 50 CFR part 648 and is exempt from review under Executive Order 12866.

This action closes NLCA to scallop vessels until June 15, 2007. The regulations at 50 CFR 648.59(a)(5)(ii)(C) and 648.85(c)(3)(ii) require such action to ensure that scallop vessels do not take more YT than set aside for the scallop fishery. The NLCA opened for the 2006 fishing year on June 15, 2006. Data indicating the scallop fleet has taken, or is projected to take, all of the NLCA YT TAC has only recently become available. To allow scallop vessels to continue to take trips in the NLCA during the period necessary to publish and receive comments on a proposed rule would result in vessels taking much more YT than allocated to the scallop fleet. Excessive YT harvest from the NLCA would result in excessive fishing effort on the Southern New England/Mid-Atlantic YT stock, where tight effort controls are critical for the rebuilding program. Should excessive fishing effort occur, future management measures may need to be more restrictive. Based on the above, under 5 U.S.C. 553(d)(3), proposed rule making is waived because it would be impracticable and contrary to the public interest to allow a period for public comment. Furthermore, for the same reasons, there is good cause under 5 U.S.C 553(d)(3) to waive the 30-day delayed effectiveness period for this action.

Authority: 16 U.S.C. 1801 et seq.

Dated: July 18, 2006.
Alan D. Risenhoover,
Acting Director, Office of Sustainable Fisheries, National Marine Fisheries Service.

[FR Doc. 06-6428 Filed 7-19-06; 2:04 pm]

BILLING CODE 3510-22-S